DEPARTMENT OF STATE

[Public Notice: 9658]

Notice of Renewal of the Charter of the International Telecommunication Advisory Committee (ITAC)

SUMMARY: This notice announces the renewal of the Charter for the International Telecommunication Advisory Committees (ITAC). In accordance with the provisions of the Federal Advisory Committee Act (Pub. L. 92-463, 5 U.S.C. Appendix) and the general authority of the Secretary of State and the Department of State set forth in Title 22 of the United States code, in particular Sections 2656 and 2707, the charter of the International Telecommunication Advisory Committee has been extended until July 22, 2016.

The ITAC primarily consists of members of the telecommunications industry, ranging from network operators and service providers to equipment vendors, members of academia, members of civil society, and officials of interested government agencies. The ITAC provides views and advice to the Department of State on positions on international telecommunications and information policy matters. This advice has been a major factor in ensuring that the United States is well prepared to participate effectively in the international telecommunications and information policy arena.

FOR FURTHER INFORMATION CONTACT: Please contact Franz Zichy at 202-647-5778, zichyfj@state.gov.

Dated: July 26, 2016.
Julie N. Zoller,
Senior Deputy Coordinator, International Communications and Information Policy, U.S. State Department.

[FR Doc. 2016-18369 Filed 8-2-16; 8:45 am]

BILLING CODE P